ENVIRONMENTAL PROTECTION AGENCY

[EPA-HQ-OW-2007-0142; FRL-8473-7]

Agency Information Collection Activities; Submission to OMB for Review and Approval; Comment Request; OMB Control Numbers 2040-0009, 2040-0110 and 2040-0258

AGENCY: Environmental Protection Agency (EPA).

ACTION: Notice.

SUMMARY: In compliance with the Paperwork Reduction Act (PRA) (44 U.S.C. 3501 et seq.), this document announces that three Information Collection Requests (ICRs) have been forwarded to the Office of Management and Budget (OMB) for review and approval. This is a request to renew three existing approved collections. The ICRs, which are abstracted below, describe the nature of the information collection and their estimated burden and cost.

DATES: Additional comments may be submitted on or before October 29, 2007.

ADDRESSES: Submit your comments, referencing Docket ID No. EPA-HQ-OW-2007-0142, to (1) EPA online using www.regulations.gov (our preferred method), by e-mail to ow-docket@epa.gov, or by mail to: EPA Docket Center, Environmental Protection Agency, Water Docket, Mailcode: 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Amelia Letnes, State and Regional Branch, Water Permits Division, OWM Mail Code: 4203M, Environmental Protection Agency, 1200 Pennsylvania Ave., NW., Washington, DC 20460; telephone number: (202) 564-5627; fax number: (202) 564-9544; e-mail address: letnes.amelia@epa.gov.

SUPPLEMENTARY INFORMATION:

For All ICRs

EPA has submitted the ICRs listed under Section A to OMB for review and approval according to the procedures prescribed in 5 CFR 1320.12. On June 27, 2007 (72 FR 35227), EPA sought comments on these ICRs pursuant to 5 CFR 1320.8(d). EPA received no comments. Any additional comments on these ICRs should be submitted to EPA and OMB within 30 days of this notice.

EPA has established a public docket for these ICRs under Docket ID No. EPA-HQ-OW-2007-0142, which is available for online viewing at www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-2426.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, Confidential Business Information (CBI), or other information whose public disclosure is restricted by statute. For further information about the electronic docket, go to www.regulations.gov.

These ICRs are scheduled to expire on September 30, 2007. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

A. List of ICRs Submitted

(1) Concentrated Aquatic Animal Production Effluent Guidelines (Renewal), EPA ICR Number 2087.03, OMB Control Number 2040-0258, expiration date 09/30/2007.

(2) National Pollutant Discharge Elimination System (NPDES)/Compliance Assessment/Certification Information (Renewal), EPA ICR Number 1427.08, OMB Control Number 2040-0110, expiration date 09/30/2007.

(3) National Pretreatment Program (Renewal), EPA ICR Number 0002.14, OMB Control Number 2040-0009, expiration date 09/30/2007.

B. Individual ICRs

(1) Concentrated Aquatic Animal Production Effluent Guidelines (Renewal), EPA ICR Number 2087.03, OMB Control Number 2040-0258, expiration date 09/30/2007.

Abstract: This ICR requests OMB renewal of the approval for the Concentrated Aquatic Animal Production (CAAP) Effluent Guidelines. The rule establishes specific reporting requirements for a segment of CAAP facilities through NPDES permits. The rule covers facilities which are defined as CAAP facilities (see 40 CFR 122.24 and 40 CFR part 122 Appendix C) and produce at least 100,000 pounds per year in flow through, recirculating, and net pen systems.

The rule includes special mandatory reporting and recordkeeping requirements which are the subject of this ICR. CAAP facility owners or operators are also required to file reports with the permitting authority when drugs with special approvals are applied to the production units or a failure in the structural integrity occurs in the aquatic animal containment system.

When CAAP facilities apply either an Investigational New Animal Drug (INAD) or a drug that has been prescribed extra-label by a veterinarian to treat the aquatic animals at their facility, the owner or operator must report this use to the permitting authority. In addition, the owner or operator of a CAAP facility must notify the permitting authority upon agreeing to participate in an INAD study.

Whenever a structural failure occurs in the aquatic animal containment system, the owner or operator must report this to the permitting authority. For the purposes of this requirement, the aquatic animal containment system is defined as the unit(s) that contain(s) the aquatic animals and in which their culture takes place, as well as the wastewater handling and treatment units associated with aquatic animal production.

CAAP facilities subject to this regulation are also required to develop and implement a Best Management Practices (BMP) plan that ensures that the regulatory requirements will be met. Upon completion of this BMP plan, the owner or operator must certify to the permitting authority that the plan has been developed.

CAAP facilities are also expected to keep records of the feed inputs along with an estimate of the number and weight of the animals being raised. These records are to be used to calculate the feed conversion ratios for the facility. Records must also be kept documenting the frequency of facility inspections, maintenance and repairs, and cleaning of the rearing units at flow through and recirculating facilities or changing the nets at net pen facilities.

This information collection may contain CBI, especially the reporting requirements associated with investigational drug use. If this is the case, the respondent may request that such information be treated as confidential. All confidential data will be handled in accordance with 40 CFR 122.7, 40 CFR part 2 and EPA's Security Manual. However, CWA section 308(b) specifically States that effluent data may not be treated as confidential.

Burden Statement: The annual public reporting and recordkeeping burden for this collection of information is estimated to average 180.4 hours per respondent per year, or 60.2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action are a subset of facilities engaged in aquatic animal production defined to 40 CFR part 451.

Estimated Number of Respondents: 245 (200 facilities and 45 States).

Frequency of Response: Once every five years, on occasion, on-going.

Estimated Total Annual Hour Burden: 44,196 hours.

Estimated Total Annual Cost: $971,500, includes $0 annualized capital or O&M costs.

Changes in the Estimates: There is a decrease of 804 hours (1.8%) in the total estimated burden currently identified in the OMB Inventory of Approved ICR Burdens. This decrease reflects EPA's corrections to the 2004 ICR and is not the result of changes to the requirements covered by this ICR.

(2) National Pollutant Discharge Elimination System (NPDES)/Compliance Assessment/Certification Information (Renewal), EPA ICR Number 1427.08, OMB Control Number 2040-0110, expiration date 09/30/2007.

Abstract: The purpose of this ICR is to calculate the burden and costs associated with the data requirements necessary for a permitting authority (either an authorized State or EPA) to determine whether an existing NPDES or sewage sludge permittee is in compliance with the conditions of its permit.

A permitting authority collects information necessary to determine a permittee's compliance with specific permit requirements during the effective term of a given permit. Compliance assessment reporting requirements include routine submittals (e.g., annual certifications and reports submitted when a compliance schedule milestone is reached) and non-routine submittals (e.g., required when certain conditions occur, such as an unanticipated bypass). NPDES staff may use this information to determine if follow-up activities are necessary.

This ICR includes burden hours and costs associated with noncompliance reports for Concentrated Animal Feeding Operations (CAFOs) not accounted for in the NPDES Regulation and Effluent Limitation Guidelines and Standards for Concentrated Animal Feeding Operations ICR (EPA ICR No. 1989.04; OMB No. 2040-0250).

Five additional effluent limitations guidelines development ICRs were set to expire in the next three years prior to the next renewal of this Compliance Assessment/Certification ICR. The burden for direct dischargers associated with those five ICRs has been incorporated into the Compliance Assessment/Certification ICR. The five ICRs include:

1. Milestone Plans for the Bleached Papergrade Kraft and Soda Subcategory of the Pulp, Paper, and Paperboard Point Source Category (40 CFR part 430), EPA ICR No. 1877.03, OMB Control No. 2040-0202;

2. Best Management Practices (BMPs) for Bleached Papergrade Kraft and Soda Subcategory and the Papergrade Kraft Sulfite Subcategory of the Pulp, Paper, and Paperboard Point Source Category (40 CFR part 430), EPA ICR No. 1829.03, OMB Control No. 2040-0207;

3. Baseline Standards and Best Management Practices for the Coal Mining Point Source Category (40 CFR part 434)—Coal Remining Subcategory and Western Alkaline Coal Mining Subcategory, EPA ICR No. 1944.03, OMB Control No. 2040-0239;

4. Voluntary Certification in Lieu of Chloroform Minimum Monitoring Requirements for Direct and Indirect Discharging Mills in the Bleached Papergrade Kraft and Soda Subcategory of the Pulp, Paper and Paperboard Manufacturing Category (40 CFR part 430), EPA ICR No. 2015.02, OMB Control No. 2040-0242; and

5. Minimum Monitoring Requirements for Direct and Indirect Discharging Mills in the Bleached Papergrade Kraft and Soda Subcategory and the Papergrade Sulfite Subcategory of the Pulp, Paper and Paperboard Manufacturing Category (40 CFR part 430), EPA ICR No. 1878.02, OMB Control No. 2040-0243.

Where information submitted in conjunction with this ICR contains trade secrets or similar CBI, the respondent has the authority to request that this information be treated as CBI. All confidential data will be handled in accordance with 40 CFR 122.7, 40 CFR part 2. Any claim of confidentiality must be asserted at the time of submission. However, CWA section 308(b) specifically States that effluent data may not be treated as confidential.

Burden Statement: The annual public reporting and recordkeeping burden for this collection of information is estimated to average 4.1 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action are most facilities required to have NPDES permit coverage, including but not limited to POTWs, PrOTWs, manufacturing and commercial dischargers, mining operations, and CAFOs.

Estimated Number of Respondents: 450,471 (450,425 facilities and 46 States).

Frequency of Response: Every five years, annual, semiannual, quarterly, monthly, on occasion.

Estimated Total Annual Hour Burden: 2,066,677 hours.

Estimated Total Annual Cost: $92,353,878, includes $0 annualized capital or O&M costs.

Changes in the Estimates: There is an increase of 195,157 hours (10.4%) in the total estimated respondent burden compared with that identified in the ICR currently approved by OMB. This increase is mostly the result of the increase in the number of expected stormwater construction and other non-stormwater general permittees and the inclusion of noncompliance for CAFO permittees in this ICR. It is not the result of changes to the requirements covered by this ICR.

(3) National Pretreatment Program (Renewal), EPA ICR Number 0002.14, OMB Control Number 2040-0009, expiration date 09/30/2007.

Abstract: This ICR calculates the burden and costs associated with managing and implementing the National Pretreatment Program as mandated under CWA sections 402(a) and (b) and 307(b). This ICR includes all existing tasks under the National Pretreatment Program, as amended by the EPA's recent Streamlining Rule. It integrates key elements from two existing ICRs whose approvals are due to expire shortly: (1) Information Collection Request for the National Pretreatment Program, OMB Control No. 2040-0009, EPA ICR No.: 0002.11, June 7, 2005, and (2) Revision of the Information Collection Request for the National Pretreatment Program (Pretreatment Streamlining ICR) (40 CFR part 403), OMB Control No. 2040-0009, EPA ICR No. 0002.12, September 22, 2005.

EPA's Office of Wastewater Management (OWM) in the Office of Water (OW) is responsible for the management of the pretreatment program. The CWA requires EPA to develop national pretreatment standards to control discharges from Industrial Users (IUs) into Publicly Owned Treatment Works (POTWs). These standards limit the level of certain pollutants allowed in non-domestic wastewater that is discharged to a POTW. EPA administers the pretreatment program through the NPDES permit program. Under the NPDES permit program, EPA may approve State or individual POTW implementation of the pretreatment standards at their respective levels. Data collected from IUs during implementation of the pretreatment program include the mass, frequency, and content of IU discharges and IU schedules for installing pretreatment equipment. Data also include actual or anticipated IU discharges of wastes that violate pretreatment standards, have the potential to cause problems at the POTW, or are considered hazardous under the Resource Conservation and Recovery Act (RCRA). OWM uses the data collected under the pretreatment program to monitor and enforce compliance with the pretreatment regulations, as well as to authorize program administration at the State or Local (POTW) level. States and POTWs applying for approval of their pretreatment programs submit data concerning their legal, procedural, and administrative bases for establishing such programs. This information may include surveys of IUs, local limits for pollutant concentrations, and schedules for completion of major project requirements. IUs and POTWs submit written reports to the approved State or EPA. These data may then be entered into the NPDES databases by the approved State or by EPA.

Four additional effluent limitations guidelines development ICRs were set to expire within the next 3 years, before the next renewal of this Pretreatment Program ICR. It was EPA's intention to transfer some of the burden and cost from those ICRs into the Pretreatment Program ICR during the previous ICR renewal cycle, but final action was not taken until March 23, 2007. Therefore, the burden and cost associated with indirect dischargers from those four ICRs is incorporated into this Pretreatment Program ICR as part of the renewal process. The four ICRs are the following:

1. Pollution Prevention Compliance Alternative; Transportation Equipment Cleaning Point Source Category (40 CFR part 442), EPA ICR No. 2018.02, OMB Control No. 2040-0235.

2. Voluntary Certification in Lieu of Chloroform Minimum Monitoring Requirements for Direct and Indirect Discharging Mills in the Bleached Papergrade Kraft and Soda Subcategory of the Pulp, Paper and Paperboard Manufacturing Category (40 CFR part 430), EPA ICR No. 2015.02, OMB Control No. 2040-0242.

3. Best Management Practices (BMPs) for Bleached Papergrade Kraft and Soda Subcategory and the Papergrade Kraft Sulfite Subcategory of the Pulp, Paper, and Paperboard Point Source Category (40 CFR part 430), EPA ICR No. 1829.03, OMB Control No. 2040-0207.

4. Minimum Monitoring Requirements for Direct and Indirect Discharging Mills in the Bleached Papergrade Kraft and Soda Subcategory and the Papergrade Sulfite Subcategory of the Pulp, Paper and Paperboard Manufacturing Category (40 CFR part 430), EPA ICR No. 1878.02, OMB Control No. 2040-0243.

The following reporting requirements may contain CBI, proprietary information, or information containing compromising trade secrets:

• Pretreatment Baseline Monitoring Report (BMR)

• IU Compliance Schedule Report

• POTW and IU Maintenance of Monitoring Records

• Pretreatment Categorical Determination Request

• Pretreatment Fundamentally Different Factors (FDF) Variance Request

In such cases, the respondent has the right to request that the information be treated as CBI. EPA and its agents will handle all data so designated in accordance with the requirements at 40 CFR 403.14(a). The pretreatment regulations, however, stipulate at 40 CFR 403.14(b) that industrial effluent data shall be made available to the public without restriction.

Burden Statement: The annual public reporting and recordkeeping burden for this collection of information is estimated to average 18 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Various industrial categories, POTWs, Local and State governments.

Estimated Number of Respondents: 24,740 (35 States, 1,512 POTWs and 23,193 industrial users)

Frequency of Response: On occasion, semi-annually, annually, and as needed.

Estimated Total Annual Hour Burden: 1,797,087 hours.

Estimated Total Annual Cost: $82,467,367, includes $2,003,205 annualized capital or O&M costs.

Changes in the Estimates: There is a decrease of 181,045 (9.2%) hours in the total estimated respondent burden compared with that identified in the ICR currently approved by OMB. There are burden increases reflected in this ICR due to increases in the estimates of State respondents, number of approved programs, and incorporation of burden from other ICRs. However, the main change in burden is reflected in a decrease in the number of Significant Industrial Users (SIUs). EPA revised the estimated number of SIUs and pretreatment programs after extensive consultation with the EPA regions and a thorough examination of Permit Compliance System (PCS) data. This resulted in an overall decrease in the burden of this ICR.

Dated: September 21, 2007.
Joseph A. Sierra,
Acting Director, Collection Strategies Division.

[FR Doc. E7-19126 Filed 9-26-07; 8:45 am]

BILLING CODE 6560-50-P